DEPARTMENT OF TRANSPORTATION

Federal Aviation Administration

[Docket No. FAA-2019-0396]

Agency Information Collection Activities: Requests for Comments; Clearance of a Renewed Approval of Information Collection: Application for Employment With the Federal Aviation Administration Correction

AGENCY: Federal Aviation Administration (FAA), DOT.

ACTION: Notice and request for comments.

SUMMARY: This notice is a Correction to the notice published on May 14, 2019, due to invalid Form Number and omission of the website's URL.

In accordance with the Paperwork Reduction Act of 1995, FAA invites public comments about our intention to request the Office of Management and Budget (OMB) approval to renew an information collection. The collection involves an automated application process for employment with the Federal Aviation Administration by way of the Office of Personnel Management's (OPM) USAJOBS website: www.usajobs.gov. The Applicants begin the application process by building an account on USAJOBS website and; thereafter, they are passed into the FAA Automated Vacancy Information Access Tool for Online Referral (AVIATOR) to answer specific questions related to FAA job vacancy of interest. This pass through is a direct USAJOBS interface with AVIATOR and; hence, there is no standalone link to be used by the applicants.

The information collected is necessary to determine basic eligibility for employment and potential eligibility for Veteran's Preference, Veteran's Readjustment Act, and People with Disability appointments. In addition, there are specific occupation questions that assist the FAA Office of Human Resource Management (AHR) in determining candidates' qualifications in order that the best-qualified candidates are hired for the many FAA occupations.

DATES: Written comments should be submitted by September 9, 2019.

ADDRESSES: Please send written comments:

By Electronic Docket: www.regulations.gov (Enter docket number into search field).

By mail: Toni Main-Valentin, FAA Mike Monroney Aeronautical Center, Office of Human Resource Management, P.O. Box 25082, Headquarters Bldg1, Oklahoma City, OK 73125.

By fax: 405-954-5766.

FOR FURTHER INFORMATION CONTACT: Toni Main-Valentin by email at: toni.main-valentin@faa.gov; phone: 405-954-0870.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0597.

Title: Application for Employment with the Federal Aviation Administration.

Online website: www.usajobs.gov.

Type of Review: Renewal of an information collection.

Background: Under the provisions of Public Law 104-50, the Federal Aviation Administration (FAA) was given the authority and the responsibility for developing and implementing its own personnel system without regard to most of the provisions of Title 5, United States Code, exceptions being those concerning veteran's preference and various benefits.

The OPM developed a suite of forms for use in automated employment processes: All under a single OMB approval. The FAA AHR has the same OMB approval for its automated application for employment. By automating processes for employment application and the evaluation of candidates, AHR has markedly improved the service it provides to the public as well as its ability to locate and hire the best-qualified applicants. Lastly, via this process, applicants are provided on-line results immediately upon submitting their application questionnaires.

The Agency is requesting certain information necessary to determine basic eligibility for employment and potential eligibility for Veteran's Preference, Veteran's Readjustment Act, and People with Disability appointments. In addition, occupation specific questions assist AHR in determining candidates' qualifications in order that the best-qualified candidates are hired for the many FAA occupations. The system currently in use for this collection is the Automated Vacancy Information Access Tool for Online Referral (AVIATOR). This system cannot be directly accessed. Applicants are transferred to the AVIATOR system from OPM's USAJOBS website during the application process.

Respondents: Over 180,000 U.S. citizens identified as applicants for employment with the Federal Aviation Administration.

Frequency: On occasion/as interested.

Estimated Average Burden per Response: 1 hour.

Estimated Total Annual Burden: 180,000 hours.

Approximately 180,000 respondents will complete an application form on as needed basis. Based on this sample size, it will take the average applicant approximately 1 hour to read the instructions and complete the form. The estimated total burden is 180,000 hours annually.

Issued in Washington, DC, on May 16, 2019.
Alpha Woodson-Smith,
Information Technology Project Manager, Finance and Management (AFN), Information and Technology Services (AIT), Enterprise Program Management Service (AEM-320).

[FR Doc. 2019-14555 Filed 7-8-19; 8:45 am]

BILLING CODE 4910-13-P